DEPARTMENT OF DEFENSE

Department of the Army, U.S. Army Corps of Engineers

Withdrawal of Notice of Intent To Prepare an Environmental Impact Statement for the Proposed Hackensack Meadowlands Ecosystem Restoration Project, Hackensack Meadowlands District, Bergen and Hudson Counties, NJ: Feasibility Phase

AGENCY: U.S. Army Corps of Engineers, Department of the Army, DoD.

ACTION: Notice of intent; withdrawal.

SUMMARY: The U.S. Army Corps of Engineers, New York District (NY District), is withdrawing its intent to prepare a Draft Environmental Impact Statement (EIS) for the Study. The Notice of Intent to prepare the Draft EIS was published in the Tuesday, December 28, 2004 issue of the Federal Register (69 FR 77744).

ADDRESSES: U.S. Army Corps of Engineers, New York District, Planning Division, Environmental Analysis Branch, 26 Federal Plaza, Room 2151, New York, NY 10278-0090.

FOR FURTHER INFORMATION CONTACT: Diana Kohtio, Project Biologist, at diana.m.kohtio@usace.army.mil or 917.790.8619.

SUPPLEMENTARY INFORMATION: The U.S. Army Corps of Engineers, NY District published a notice of intent to prepare a Draft Environmental Impact Statement in the December 28, 2004 issue of the Federal Register (FR Doc. 2004-28331). In an effort to streamline work in early 2015, the U.S. Army Corps of Engineers, New York District, consolidated multiple parallel USACE ecosystem restoration feasibility studies into the Hudson Raritan Estuary Ecosystem Restoration Feasibility Study (HRE) Study.

This streamlining is consistent with the Civil Works Transformation Initiative and Specific, Measurable, Attainable, Risk Informed, Timely (SMART) Planning principles, and maximizes efficiencies, resources and benefits. The other feasibility studies include:

• HRE—Lower Passaic River Ecosystem Restoration Feasibility Study;

• HRE—Hackensack Meadowlands Ecosystem Restoration Feasibility Study;

• Flushing Creek and Bay Ecosystem Restoration Feasibility Study;

• Bronx River Basin Ecosystem Restoration Feasibility Study;

• Jamaica Bay, Marine Park, Plumb Beach Ecosystem Restoration Feasibility Study.

As such, a Draft EIS is no longer necessary. Each Feasibility Study was at a different stage prior to the decision to consolidate into the HRE Feasibility Report/Environmental Assessment (FR/EA). The planning was conducted independently with their non-federal sponsor and resulted in the selection of specific recommendations within each watershed. These combined efforts resulted in the recommendations included in the broader HRE FR/EA. The HRE FR/EA will be prepared and circulated for review by agencies and the public. The New York District invites participation and consultation of agencies and individuals that have special expertise, legal jurisdiction, or interest in the preparation of the draft environmental assessment. Comments received, including the names and addresses of those who comment, will be considered part of the public record for this proposal. As a result of the process, if it is determined that the project may have significant impacts, the EIS process will be reinitiated and a NOI published.

Peter Weppler,
Chief, Environmental Analysis Branch.

[FR Doc. 2016-28729 Filed 11-28-16; 8:45 am]

BILLING CODE 3720-58-P